FEDERAL ELECTION COMMISSION

[Notice 2000-14]

Status of Civil Enforcement Actions Involving Coordinated Party Expenditures

AGENCY: Federal Election Commission.

ACTION: Notice.

SUMMARY: The Commission has adopted a policy statement that provides guidance to candidates and political party committees on the status of certain civil enforcement actions under the Federal Election Campaign Act pending Supreme Court resolution of the issues presented in the Tenth Circuit's decision in FEC v. Colorado Republican Federal Campaign Committee.

DATES: June 20, 2000.

FOR FURTHER INFORMATION CONTACT: Louise Wides, Assistant Staff Director, 999 E Street, NW., Washington, DC 20463, (202) 694-1100 or (800) 424-9530.

SUPPLEMENTARY INFORMATION: In a split decision, the United States Court of Appeals for the Tenth Circuit recently held that 2 U.S.C. 441a(d)(3), which limits the amount of a political party's coordinated expenditures in congressional elections, violates the First Amendment. FEC v. Colorado Republican Federal Campaign Committee, _F.3d _, 2000 WL 554688 (10th Cir. May 5, 2000). The Solicitor General has decided to seek review of that decision by the United States Supreme Court. Until the Supreme Court resolves the case, the Federal Election Commission will not file any action in the courts in the Tenth Circuit to enforce section 441a(d)(3). The Commission will, however, generally continue the administrative processing of matters concerning section 441a(d)(3).

Only the Tenth Circuit has found section 441a(d)(3) unconstitutional, and its decision is not controlling outside that court's geographic jurisdiction. Furthermore, if the United States Supreme Court overrules the Tenth Circuit, the Court's decision upholding section 441a(d)(3) will apply retroactively to any activities in the interim that violate section 441a(d)(3), even in the Tenth Circuit. See James B. Beam Distilling Co. v. Georgia, 501 U.S. 529 (1991); Harper v. Virginia Dep't of Taxation, 509 U.S. 86 (1993). Therefore, anyone who chooses to act in contravention of section 441a(d)(3)—within or without the Tenth Circuit—before the Supreme Court rules in Colorado could be subject to liability for violating the statute if the Colorado decision is reversed.

Dated: July 5, 2000.
Darryl R. Wold,
Chairman, Federal Election Commission.

[FR Doc. 00-17328 Filed 7-7-00; 8:45 am]

BILLING CODE 6715-01-P